CONSUMER PRODUCT SAFETY COMMISSION

Sunshine Act Meeting

AGENCY: U.S. Consumer Product Safety Commission, Washington, DC 20207.

TIME AND DATE: Thursday, April 13, 2000, 2 p.m.

LOCATION: Room 410, East West Towers, 4330 East West highway, Behtesda, Maryland.

STATUS: Closed to the Public.

Matter to be Considered: Compliance Status Report.

The staff will brief the Commission on the status of various compliance matters.

For a recorded message containing the latest agenda information, call (301) 504-0709.

CONTACT PERSON FOR ADDITIONAL INFORMATION: Sadye E. Dunn, Office of the Secretary, 4330 East West Highway, Bethesda, MD 20207, (301) 504-0800.

Dated: April 3, 2000.
Sadye E. Dunn,
Secretary.

[FR Doc. 00-8585 Filed 4-3-00; 4:29 pm]

BILLING CODE 6355-01-M